DEPARTMENT OF ENERGY

Federal Energy Regulatory Commission

[Project No. 2100-134]

California Department of Water Resources; Notice of Availability of the Final Environmental Impact Statement for the Oroville Facilities

May 18, 2007.

In accordance with the National Environmental Policy Act of 1969 and the Federal Energy Regulatory Commission's (Commission) regulations, 18 CFR part 380 (Order No. 486, 52 FR 47897), the Office of Energy Projects has reviewed the application for license for the Oroville Facilities (FERC No. 2100), located on the Feather River in the foothills of the Sierra Nevada in Butte County, California, and has prepared a Final Environmental Impact Statement (final EIS) for the project. The existing project occupies 1,620 acres of Federal lands managed by the U.S. Department of Agriculture, Forest Service within the Plumas and Lassen National Forests and 4,620 acres managed by the U.S. Bureau of Land Management.

In the final EIS, staff evaluates the applicant's proposal and alternatives for relicensing the Oroville Facilities. The final EIS documents the views of governmental agencies, non-governmental organizations, affected Indian tribes, the public, the license applicant, and Commission staff.

The final EIS will be part of the record from which the Commission will make its decision.

Copies of the final EIS are available for review in the Commission's Public Reference Branch, Room 2A, located at 888 First Street, NE., Washington, DC 20426. The final EIS also may be viewed on the Internet at http://www.ferc.gov under the eLibrary link. Enter the docket number (P-2100) to access the document. For assistance, contact FERC Online Support at FERCOnlineSupport@ferc.gov or toll-free at 1-866-208-3676, or for TTY, (202) 502-8659.

CD versions of the draft EIS have been mailed to everyone on the mailing list for the project. Copies of the CD, as well as a limited number of paper copies, are available from the Public Reference Room identified above.

You may also register online at http://www.ferc.gov/docs-filing/esubscription.asp to be notified via e-mail of new filings and issuances related to this or other pending projects. For assistance, contact FERC Online Support.

For further information, contact James Fargo at (202) 502-6095 or at james.fargo@ferc.gov.

Kimberly D. Bose,
Secretary.

[FR Doc. E7-9974 Filed 5-23-07; 8:45 am]

BILLING CODE 6717-01-P